DEPARTMENT OF DEFENSE

Defense Finance and Accounting Service; Privacy Act of 1974; Systems of Records

AGENCY: Defense Finance and Accounting Service.

ACTION: Notice to amend DFAS systems of records.

SUMMARY: The Defense Finance and Accounting Service (DFAS) is proposing to make a global administrative change to its 18 Privacy Act systems of records notices. DFAS is amending the procedure regarding how an individual accesses records and contests the contents of such records to reflect a new address.

DATES: This action will be effective without further notice on (insert date thirty days after publication in the Federal Register) unless comments are received that would result in a contrary determination.

ADDRESSES: Send comments to the FOIA/PA Program Manager, Office of Corporate Communications, Defense Finance and Accounting Service, 6760 E. Irvington Place, Denver, CO 80279-8000.

FOR FURTHER INFORMATION CONTACT: Ms. Linda Krabbenhoft at (303) 676-7514.

SUPPLEMENTARY INFORMATION: The Defense Finance and Accounting Service notices for systems of records subject to the Privacy Act of 1974 (5 U.S.C. 552a), as amended, have been published in the Federal Register and are available from the address above.

The specific change to the records system being amended is set forth below, followed by a listing of the affected notices. The proposed amendment is not within the purview of subsection (r) of the Privacy Act of 1974, (5 U.S.C. 552a), as amended, which requires the submission of a new or altered system report.

Dated: September 1, 2004.
L.M. Bynum,
Alternate OSD Federal Register Liaison Officer, Department of Defense.

DFAS is amending the entry ‘Contesting record procedures:’ with the following:

‘Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

T1205 Junior Reserve Office Training Corps Payment Reimbursement System

T1300 Disbursing Officer Establishment and Appointment Files

T3020 Living Disaster Recovery Planning System (LDRPS)

T5015a Military Pay Correction Case Files

T5015b Privacy Act Request Files

T5015c Freedom of Information Act Requests

T5500a Congressional Inquiry File

T5500b Garnishment Processing Files

T7280 Uniformed Services Savings Deposit Program (USSDP)

T7290 Non-appropriated Fund Accounts Receivable System

T7330 DFAS Payroll Locator File System (PLFS)

T7332 Defense Debt Management System (DDMS)

T7332c Bankruptcy Processing Files

T7333 {PRIVATE} Travel Payment System

T7335 Defense Civilian Pay System

T7340 Defense Joint Military Pay System—Active Component

T7346 Defense Joint Military Pay System—Reserve Component

T7347b Defense Military Retiree and Annuity Pay System

[FR Doc. 04-20281 Filed 9-7-04; 8:45 am]

BILLING CODE 5001-06-M